GENERAL SERVICES ADMINISTRATION

41 CFR Chapter 301 and Part 301-11

[FTR Amendment 109]

RIN 3090-AH66

Federal Travel Regulation; Maximum Per Diem Rates

AGENCY: Office of Governmentwide Policy, GSA.

ACTION: Final rule.

SUMMARY: An analysis of lodging and meal cost survey data reveals that the listing of maximum per diem rates for locations within the continental United States (CONUS) should be updated to provide for the reimbursement of Federal employees' expenses covered by per diem. This final rule increases/decreases the maximum per diem allowance in certain existing per diem localities and adds new per diem localities. In an effort to improve the ability of the per diem rates to meet the lodging demands of Federal travelers to high cost travel locations, the General Services Administration (GSA) has integrated the contracting mechanism of the new Federal Premier Lodging Program (FPLP) into the per diem rate-setting process. The FPLP will enhance the Government's ability to meet its overall room night demand, and allow travelers to find lodging close to where they conduct business.

DATES: This final rule is effective October 1, 2002, and applies for travel performed on or after October 1, 2002.

FOR FURTHER INFORMATION CONTACT: Joddy Garner, Office of Governmentwide Policy, Travel Management Policy Division, at 202 501-4857.

SUPPLEMENTARY INFORMATION:

A. Background

In order to provide adequate per diem reimbursement for Federal employee travel, the maximum per diem allowances are changed in specific locations. Properties in high cost travel areas are under no obligation to provide lodging to Federal travelers at the per diem rate. Thus, the General Services Administration (GSA) established the Federal Premier Lodging Program (FPLP) to contract directly with properties in high cost travel markets to make available a set number of rooms to Federal travelers at contract rates. For the locations where FPLP contracts are already effective, GSA has adopted the contract rates as the per diem lodging rates applicable to these locations. For the destinations where we plan to award FPLP contracts in the near future, we also plan to adopt the contract rates as the new per diem lodging rates, but we cannot make these changes until the new contracts become effective. Therefore, these lodging rate changes will become effective at a later date. A listing of these proposed new FPLP destinations follows the per diem rates listing.

For fiscal year (FY) 2003, significant changes were made regarding the per diem rates. There are 13 new destinations being added to the per diem listing, and an increase in the lodging rate for Pensacola, Florida. However, the FY 2002 standard CONUS per diem rate and all other per diem lodging rates remain unchanged through September 30, 2003 (except for the proposed new FPLP destinations mentioned above). This is due to our establishment of a Governmentwide Per Diem Advisory Board (Board) to review the current per diem rate setting process and methodology. Recommendations from the Board are forthcoming in December 2002, and we will consider appropriate per diem changes at that time. In addition, new M&IE rates for locations in designated markets have been approved, as well as a new M&IE tier of $50.

B. Executive Order 12866

GSA has determined that this final rule is not a significant regulatory action for the purposes of Executive Order 12866 of September 30, 1993.

C. Regulatory Flexibilitiy Act

This final rule is not required to be published in the Federal Register for notice and comment; therefore, the Regulatory Flexibility Act, 5 U.S.C. 601 et seq., does not apply.

D. Paperwork Reduction Act

The Paperwork Reduction Act does not apply because the proposed revisions do not impose recordkeeping or information collection requirements, or the collection of information from offerors, contractors, or members of the public which require the approval of the Office of Management and Budget under 44 U.S.C. 501 et seq.

E. Small Business Regulatory Enforcement Fairness Act

This final rule is also exempt from congressional review prescribed under 5 U.S.C. 801 since it relates solely to agency management and personnel.

List of Subjects in 41 CFR Part 301-11

Government employees, Travel and transportation expenses.

For the reasons set forth in the preamble, 41 CFR chapter 301 is amended as follows:

PART 301-11—PER DIEM EXPENSES

1. The authority citation for part 301-11 continues to read as follows:

Authority: 5 U.S.C. 5707.

2. In § 301-11.18 the table is revised to read as follows:

§ 301-11.18 What M&IE rate will I receive if a meal(s) is furnished at nominal or no cost by the Government or is included in the registration fee?

* * * * *

M&IE | 30 | 34 | 38 | 42 | 46 | 50
Breakfast | $6 | $7 | $8 | $9 | $9 | $10
Lunch | 6 | 7 | 8 | 9 | 11 | 12
Dinner | 16 | 18 | 20 | 22 | 24 | 26
Incidentals | 2 | 2 | 2 | 2 | 2 | 2

3. Appendix A to chapter 301 is revised to read as follows:

Appendix A to Chapter 301—Prescribed Maximum Per Diem Rates for CONUS

The maximum rates listed below are prescribed under part 301-11 of this chapter for reimbursement of per diem expenses incurred during official travel within CONUS (the continental United States). The amount shown in column (a) is the maximum that will be reimbursed for lodging expenses excluding taxes. The M&IE rate shown in column (b) is a fixed amount allowed for meals and incidental expenses covered by per diem. The per diem payment calculated in accordance with part 301-11 of this chapter for lodging expenses plus the M&IE rate may not exceed the maximum per diem rate shown in column (c). Seasonal rates apply during the periods indicated. It is the policy of the Government, as reflected in the Hotel Motel Fire Safety Act of 1990 (Public Law 101-391, September 25, 1990 as amended by Public Law 105-85, November 18, 1997), referred to as “the Act” in this paragraph, to save lives and protect property by promoting fire safety in hotels, motels, and all places of public accommodation affecting commerce. In furtherance of the Act's goals, employees are encouraged to stay in a facility which is fire-safe, i.e., an approved accommodation, when commercial lodging is required. Lodgings that meet the Government requirements are listed on the U.S. Fire Administration's Internet site at http://www.usfa.fema.gov/applications/hotel.

BILLING CODE 6820-34-P

Dated: August 27, 2002.
Stephen A. Perry,
Administrator, General Services Administration.

[FR Doc. 02-22314 Filed 8-29-02; 8:45 am]

BILLING CODE 6820-34-C